DEPARTMENT OF THE INTERIOR

Fish and Wildlife Service

Endangered and Threatened Species Permit Applications

AGENCY: Fish and Wildlife Service, Interior.

ACTION: Notice of receipt of application.

SUMMARY: The following applicant has applied for a scientific research permit to conduct certain activities with endangered species pursuant to section 10(a)(1)(A) of the Endangered Species Act of 1973, as amended.

DATES: To ensure consideration, written comments must be received on or before February 25, 2004.

ADDRESSES: Written comments should be submitted to the Chief, Endangered Species Division, Ecological Services, P.O. Box 1306, Albuquerque, New Mexico 87103. Documents and other information submitted with this application are available for review, subject to the requirements of the Privacy Act and Freedom of Information Act. Documents will be available for public inspection, by appointment only, during normal business hours at the U.S. Fish and Wildlife Service, 500 Gold Avenue, SW., Room 4102, Albuquerque, New Mexico. Please refer to the permit number when submitting comments. All comments received, including names and addresses, will become part of the official administrative record and may be made available to the public.

FOR FURTHER INFORMATION CONTACT: Chief, Endangered Species Division, (505) 248-6920.

SUPPLEMENTARY INFORMATION:

Permit No. TE-080636

Applicant: Terracon Inc., Lenexa, Kansas.

Applicant requests a new permit for research and recovery purposes to conduct presence/absence surveys, baiting, and trapping of American burying beetles (Nicrophorus americanus) within Arkansas, Kansas, Nebraska, Oklahoma, and South Dakota.

Authority: 16 U.S.C. 1531, et seq.

Dated: January 9, 2004.
Susan MacMullin,
Acting Assistant Regional Director, Ecological Services, Region 2, Albuquerque, New Mexico.

[FR Doc. 04-1557 Filed 1-23-04; 8:45 am]

BILLING CODE 4310-55-P